INTERNATIONAL TRADE COMMISSION

[Investigation Nos. 701-TA-481 and 731-TA-1190 (Second Review)]

Crystalline Silicon Photovoltaic Cells and Modules From China

Determinations

On the basis of the record ¹ developed in the subject five-year reviews, the United States International Trade Commission (“Commission”) determines, pursuant to the Tariff Act of 1930 (“the Act”), that revocation of the countervailing and antidumping duty orders on crystalline silicon photovoltaic cells and modules from China would be likely to lead to continuation or recurrence of material injury to an industry in the United States within a reasonably foreseeable time.

¹ The record is defined in § 207.2(f) of the Commission's Rules of Practice and Procedure (19 CFR 207.2(f)).

Background

The Commission instituted these reviews on February 1, 2024 (89 FR 6550) and determined on May 6, 2024 that it would conduct expedited reviews (89 FR 48442, June 6, 2024).

The Commission made these determinations pursuant to section 751(c) of the Act (19 U.S.C. 1675(c)). It completed and filed its determinations in these reviews on September 20, 2024. The views of the Commission are contained in USITC Publication 5546 (September 2024), entitled Crystalline Silicon Photovoltaic Cells and Modules from China: Investigation Nos. 701-TA-481 and 731 TA 1190 (Second Review).

By order of the Commission.
Issued: September 20, 2024.
Lisa Barton,
Secretary to the Commission.

[FR Doc. 2024-21988 Filed 9-25-24; 8:45 am]

BILLING CODE 7020-02-P